NUCLEAR REGULATORY COMMISSION

[Docket Nos. 52-029-COL, 52-030-COL]

In the Matter of Progress Energy Florida, Inc. (Combined License Application, Levy County Nuclear Power Plant, Units 1 and 2); Notice of Appointment of Adjudicatory Employee

Commissioners: Gregory B. Jaczko, Chairman, Kristine L. Svinicki, George Apostolakis, William D. Magwood, IV, William C. Ostendorff.

Pursuant to 10 CFR 2.4, notice is hereby given that Jean-Claude Dehmel, Senior Health Physicist, Office of New Reactors, Division of Construction Inspection and Operating Programs, has been appointed as a Commission adjudicatory employee within the meaning of section 2.4, to advise the Commission regarding issues relating to pending appeal filed by the Nuclear Regulatory Commission staff in this case. Mr. Dehmel has not previously performed any investigative or litigating function in connection with this or any related proceeding. Until such time as a final decision is issued in this matter, interested persons outside the agency and agency employees performing investigative or litigating functions in this proceeding are required to observe the restrictions of 10 CFR 2.347 and 2.348 in their communications with Mr. Dehmel.

It is so ordered.

Dated at Rockville, Maryland, this 24th day of February, 2011.
For the Commission.
Andrew L. Bates,
Acting Secretary of the Commission.

[FR Doc. 2011-4675 Filed 3-1-11; 8:45 am]

BILLING CODE 7590-01-P